DEPARTMENT OF HEALTH AND HUMAN SERVICES

Health Resources and Services Administration

HRSA-Initiated Supplemental Funding to the Supporting Maternal Health Innovation Program

AGENCY: Health Resources and Services Administration (HRSA), Department of Health and Human Services.

ACTION: Notice of supplemental award.

SUMMARY: HRSA is providing supplemental funds not to exceed $1,500,000 to the Supporting Maternal Health Innovation Program, also referred to as the Maternal Health Learning and Innovation Center (MHLIC), in fiscal year (FY) 2023 to provide support and capacity building to HRSA's new maternal health award recipients under the State Maternal Health Innovation (MHI) Program (HRSA-23-108).

FOR FURTHER INFORMATION CONTACT: Kimberly Sherman, Chief, Maternal and Women's Health Branch, Division of Healthy Start and Perinatal Services, Maternal and Child Health Bureau, HRSA, at ksherman@hrsa.gov or (301) 443-1702.

SUPPLEMENTARY INFORMATION:

Intended Recipient of the Award: One award to the University of North Carolina at Chapel Hill, the current recipient under the Supporting Maternal Health Innovation Program, now known as MHLIC, as listed in Table 1.

Amount of Non-Competitive Award: Up to $1,500,000.

Project Period: September 30, 2019, to September 29, 2024.

CFDA Number: 93.110.

Award Instrument: Supplement.

Authority: 42 U.S.C. 701(a)(2) (title V, section 501(a)(2) of the Social Security Act).

Table 1—Supporting MHI Program Award Recipient (2019-2024)
Grant No. | Grantee organization | City, state | Award amount
U7CMC33636 | University of North Carolina at Chapel Hill | Raleigh, NC | $1,500,000

Justification: The Consolidated Appropriations Act, 2023 (Pub. L. 117-328) included additional Special Projects of Regional and National Significance funding. The Explanatory Statement accompanying the Consolidated Appropriations Act specified a $26 million increase for the State MHI Program to establish new cooperative agreements in FY 2023 with up to 23 new states. MHLIC provides support and capacity building to HRSA's maternal health award recipients. Supplemental funds to MHLIC will be used to provide support and capacity building to the new cohort of FY 2023 State MHI award recipients. The requested activities are within scope of the Supporting Maternal Health Innovation Program.

Carole Johnson,
Administrator.

[FR Doc. 2023-18799 Filed 8-30-23; 8:45 am]

BILLING CODE 4165-15-P